FEDERAL COMMUNICATIONS COMMISSION

Technological Advisory Council Meeting Postponed

AGENCY: Federal Communications Commission.

ACTION: Notice of rescheduling of public meeting.

SUMMARY: In accordance with the Federal Advisory Committee Act, 5 U.S.C. App. 2, Public Law 92-463, as amended, this notice advises interested persons that the meeting of the Technological Advisory Council scheduled for March 28, 2001 has been cancelled and will be rescheduled at a later date.

FOR FURTHER INFORMATION CONTACT: Robert Kimball@fcc.gov or 202-418-2339.

Federal Communications Commission.
Magalie Roman Salas,
Secretary.

[FR Doc. 01-7239 Filed 3-22-01; 8:45 am]

BILLING CODE 6712-01-P